FEDERAL RESERVE SYSTEM

Agency Information Collection Activities: Announcement of Board Approval Under Delegated Authority and Submission to OMB

SUMMARY:

Background

Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the Paperwork Reduction Act (PRA) Submission, supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer—Michelle Shore—Division of Research and Statistics, Board of Governors of the Federal Reserve System, Washington, DC 20551 (202-452-3829).

OMB Desk Officer—Shagufta Ahmed—Office of Information and Regulatory Affairs, Office of Management and Budget, New Executive Office Building, Room 10235, Washington, DC 20503.

Final approval under OMB delegated authority of the extension for three years, without revision, of the following report:

Report title: Recordkeeping and Disclosure Requirements Associated with Securities Transactions Pursuant to Regulation H.

Agency form number: Reg H-3.

OMB control number: 7100-0196.

Frequency: On occasion.

Reporters: State member banks.

Estimated annual reporting hours: 97,279 hours.

Estimated average hours per response: State member banks (de novo): recordkeeping, 40 hours. State member banks with trust departments: recordkeeping, 2 hours; disclosure, 16 hours. State member banks without trust departments: recordkeeping, 15 minutes; disclosure, 5 hours.

Number of respondents: 3 new state member banks (de novo), 224 state member banks with trust departments and state member trust companies, and 621 state member banks without trust departments.

General description of report: This information collection is mandatory pursuant the Federal Deposit Insurance Corporation Act (12 U.S.C. 325), which authorizes the Federal Reserve to require recordkeeping, disclosure and policy establishment requirements associated with Sections 208.34(c), (d), and (g) of Regulation H, and 15 U.S.C. 78w. If the records maintained by state member banks come into the possession of the Federal Reserve, they are given confidential treatment (5 U.S.C. 552(b)(4), (b)(6), and (b)(8)) under the Freedom of Information Act.

Abstract: The Federal Reserve's Regulation H requires state member banks to maintain records for three years following a securities transaction. These requirements are necessary to protect the customer, to avoid or settle customer disputes, and to protect the institution against potential liability arising under the anti-fraud and insider trading provisions of the Securities Exchange Act of 1934.

Current Actions: On July 8, 2010, the Federal Reserve published a notice in the Federal Register (75 FR 39258) seeking public comment for 60 days on the extension, without revision, of the Recordkeeping and Disclosure Requirements Associated with Securities Transactions Pursuant to Regulation H. The comment period for this notice expired on September 7, 2010. The Federal Reserve did not receive any comments.

Dated: Board of Governors of the Federal Reserve System, September 21, 2010.
Jennifer J. Johnson,
Secretary of the Board..

[FR Doc. 2010-24060 Filed 9-24-10; 8:45 am]

BILLING CODE 6210-01-P